AGENCY FOR INTERNATIONAL DEVELOPMENT

Freedom of Information Act “Still Interested” Inquiry

AGENCY: U.S. Agency for International Development (USAID).

ACTION: Notice of USAID Freedom of Information Act (FOIA) “Still Interested” Inquiry.

SUMMARY: The Freedom of Information Act (5 U.S.C. 552) provides that agencies shall make records available to the public, subject to certain exemptions. In line with the Department of Justice (DOJ) Office of Information Policy (OIP) guidance, agencies may confirm whether requesters are “still interested” in pending FOIA requests before continuing processing, particularly when circumstances have changed significantly. USAID is issuing this notice to inquire about requestors still interested in having USAID process their FOIA requests. Utilizing this procedure will help USAID increase efficiency, appropriately allocate resources, and reduce backlog relating to its FOIA processing. This notice applies to requesters who submitted FOIA requests prior to January 20, 2025.

DATES: All responses to this notice will be accepted on or before October 31, 2025.

ADDRESSES: All responses to this notice must be submitted by email at foia@usaid.gov.

FOR FURTHER INFORMATION CONTACT: Christopher Colbow, FOIA Public Liaison, 571-228-5866; foia@usaid.gov.

SUPPLEMENTARY INFORMATION: Due to the ongoing reorganization of USAID operations in 2025, including the transition of certain foreign assistance functions to the Department of State and a reduction-in-force of nearly all USAID personnel, the Agency is facing a significant backlog in open FOIA requests. Most subject matter experts and record custodians are no longer available, which will particularly limit USAID's ability to locate, review, and release records for prior year requests in a timely manner.

To ensure that USAID's FOIA resources are directed toward matters of current relevance and ongoing public interest, and to promote overall efficiency in managing government resources, USAID is issuing this notice to inquire about continued interest in FOIA requests that were submitted prior to January 20, 2025.

If you wish to proceed with your FOIA request submitted before January 20, 2025:

Email: foia@usaid.gov.

Subject line: Still Interested [FOIA request tracking number].

Include in the body of the email:

• Your full name;

• Your FOIA request tracking number (if available);

• The date your request was submitted; and

• A brief confirmation you wish to continue.

Please note that the foregoing applies to FOIA requests submitted to another agency, which were transferred to USAID and provided with a USAID FOIA request tracking number.

USAID will use email addresses on file for requesters with open FOIA cases submitted prior to January 20, 2025, to inform them of this notice.

The email correspondence must include the specific USAID FOIA request tracking number(s) (e.g., F-XXXX-25) and a request that USAID continue processing the request(s).

Responses must be received within 45 calendar days of this notice. If no response is received, the request will be administratively closed, and no action is required if a requester wishes to close an inquiry. This does not prevent you from submitting a new FOIA request in the future.

This action is consistent with DOJ OIP guidance on the appropriate use of “still interested” inquiries to manage FOIA backlogs and allocate resources efficiently. By confirming interest, requesters help ensure that USAID can devote its resources to requests most likely to be processed successfully and to matters of greatest current public relevance.

This notice only applies to active USAID FOIA requests and does not apply to any FOIA requests currently under appeal or subject to active litigation with USAID. Finally, this notice does not alter any of USAID's existing FOIA regulations.

USAID is committed to providing information to the public in accessible formats in accordance with Section 508 of the Rehabilitation Act of 1973, as amended (29 U.S.C. 794d). If you require assistance to respond to this notice, please contact foia@usaid.gov.

Statutory Authority: 5 U.S.C. 552.

Signing Authority

This document was approved on September 11, 2025, by Kenneth Jackson, as the Performing the Duties of Deputy Administrator for Management and Resources, USAID. The document with the original signature and date is maintained by USAID. For administrative purposes only, and in compliance with requirements of the Office of the Federal Register, the undersigned USAID Federal Register Liaison Officer has been authorized to sign and submit the document in electronic format for publication, as an official document of USAID. This administrative process in no way alters the legal effect of this document upon publication in the Federal Register.

Christopher Colbow,
FOIA Public Liaison.

[FR Doc. 2025-17820 Filed 9-15-25; 8:45 am]

BILLING CODE 6116-01-P